DEPARTMENT OF TRANSPORTATION

Federal Aviation Administration

14 CFR Part 73

[Docket No. FAA-2010-1014; Airspace Docket No. 10-ASW-14]

RIN 2120-AA66

Revocation of Restricted Areas R-3807 Glencoe, LA, and R-6320 Matagorda, TX

AGENCY: Federal Aviation Administration (FAA), DOT.

ACTION: Final rule.

SUMMARY: This action removes Restricted Areas R-3807 Glencoe, LA, and R-6320 Matagorda, TX. These restricted areas were originally established to contain aerostat balloons used in detecting illegal entry across the southern border of the United States. The aerostat balloons have not been operational for several years and the United States Air Force (USAF) has no intent to replace them. Therefore, the FAA has determined that a valid requirement for the airspace no longer exists.

DATES: Effective date 0901 UTC, January 13, 2011.

FOR FURTHER INFORMATION CONTACT: Colby Abbott, Airspace, Regulations and ATC Procedures Group, Office of Airspace Services, Federal Aviation Administration, 800 Independence Avenue, SW., Washington, DC 20591; telephone: (202) 267-8783.

SUPPLEMENTARY INFORMATION:

The Rule

This action amends 14 Code of Federal Regulations (CFR) part 73 by removing Special Use Airspace R-3807 Glencoe, LA, and R-6320 Matagorda, TX. The Department of Defense no longer has a use for the two restricted areas, which were originally established as Tethered Air Radar Sites (TARS) to contain aerostat balloons used in detecting illegal entry across the southern border of the United States. The aerostat balloons have not been operational for several years and the USAF has no intent to replace them. Additionally, the USAF no longer controls the surface lands underlying the restricted areas and has taken action to terminate leases and return the control of the lands to the owners. Therefore, the FAA has determined that a valid requirement for the airspace no longer exists and the restricted areas are being returned to the National Airspace System.

Sections 73.38 and 73.63 of 14 CFR part 73 were published in FAA Order 7400.8S, dated February 16, 2010.

Since this action reduces restricted airspace, the solicitation of comments would only delay the return of airspace to public use without offering any meaningful right or benefit to any segment of the public; therefore, notice and public procedure under 5 U.S.C. 553(b) are unnecessary.

The FAA has determined that this regulation only involves an established body of technical regulations for which frequent and routine amendments are necessary to keep them operationally current. Therefore, this action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

Environmental Review

The FAA has determined that this action qualifies for categorical exclusion under the National Environmental Policy Act in accordance with FAA Order 1050.1E, “Environmental Impacts: Policies and Procedures.” paragraph 311c. This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.38 Louisiana [Amended]

2. Section 73.38 is amended as follows:

* * * * *

R-3807 Glencoe, LA [Removed]

* * * * *

§ 73.63 Texas [Amended]

3. Section 73.63 is amended as follows:

* * * * *

R-6320 Matagorda, TX [Removed]

Issued in Washington, DC, on October 21, 2010.
Edith V. Parish,
Manager, Airspace, Regulations and ATC Procedures Group.

[FR Doc. 2010-27251 Filed 10-27-10; 8:45 am]

BILLING CODE 4910-13-P